DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date: October 21, 2011, 3:30 p.m.-5 p.m., E.D.T.

Place: Teleconference. Dial-In Number: 1-877-939-9305, participant code is 4431134.

Status: Open.

Purpose: This teleconference is being held to discuss a draft letter to the Department regarding HHS's request for comments on how current regulations for protecting human subjects who participate in research might be modernized and revised to be more effective: “Advanced Notice of Proposed Rulemaking (ANPRM) for Revisions to the Common Rule on Human Subjects Research Protection.” The ANPRM comment period closes Wednesday, October 26, 2011.

FOR FURTHER INFORMATION CONTACT: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: September 27, 2011.
James Scanlon,
Deputy Assistant Secretary for Planning and Evaluation, Office of the Assistant Secretary for Planning and Evaluation.

[FR Doc. 2011-25731 Filed 10-4-11; 8:45 am]

BILLING CODE 4151-05-P